Proclamation 10398 of May 13, 2022

World Trade Week, 2022

By the President of the United States of America

A Proclamation

American workers are the finest in the world, and my Administration remains steadfast in our commitment to building a better America by pursuing a trade agenda that puts workers first and helps foster a fairer, more inclusive, more prosperous, and more resilient Nation. During World Trade Week, we highlight the importance of global trade and the role it plays in raising the quality of life of American families while strengthening our economy and our workforce.

There is no limit to what our Nation can achieve when we work together, and I know that we can out-compete any country in the world. Winning the competition for the 21st century requires investing in our country and our people here at home, and that is exactly what my Administration is doing. Last year, we saw an unprecedented revival of American manufacturing and the pride that comes with stamping products “Made in America.” From automobiles and semiconductors to clean energy technologies, companies are building here in America again; we added over 350,000 manufacturing jobs to the economy in 2021—the best year for manufacturing jobs in nearly three decades. Through the Bipartisan Infrastructure Law, we are making crucial investments in our Nation's infrastructure, including in our ports, highways, roads, airports, and bridges, which American companies rely on to export goods. Companies have announced billions of dollars in new investments to produce and manufacture more goods right here on American soil.

Not only are we building American products and services here at home—we are selling them around the globe. My Administration has developed a comprehensive trade policy that increases and diversifies the pool of American businesses engaging in international trade. We have set a bold goal to double the number of businesses receiving export assistance from the Department of Commerce, with particular emphasis on engaging with businesses in historically underserved communities. We have made it possible for small and medium enterprises engaged in export-oriented manufacturing projects to benefit from medium- and long-term loans and loan guarantees offered by the Export-Import Bank of the United States.

My Administration continues to marshal a whole-of-government approach to address issues that threaten our economic security and prosperity—from an unprecedented pandemic and the climate crisis to global conflict and geopolitical instability. We are making investments to strengthen our global supply chains even as we strengthen our domestic supply chains in critical industries, and we are standing up to bring an end to unfair foreign trade practices that harm American workers, producers, and businesses.

We are also deepening our crucial bilateral and multilateral economic relationships with partners and allies to ensure a level playing field for United States businesses and workers and build a more stable, fair, and dependable international economic arena. This entails working together to enforce existing trade agreements while establishing new and improved trade frameworks. We are also recommitting the United States to global multilateral institutions, including the World Trade Organization, in pursuit of more durable, resilient, and sustainable trade policies that deliver better results for American workers and families.

At the same time, we are resolving ongoing issues with our trading partners and using trade as a tool to help address our common challenges, including climate change and the threat of unfair competition from non-market and authoritarian regimes. We reached a groundbreaking deal with the European Union that included a commitment to negotiate the world's first emission-based trade arrangement on steel and aluminum trade. We concluded a 17-year international commercial aviation dispute that will support good-paying jobs here at home. We reached deals with the United Kingdom and Japan on steel and aluminum. We addressed environmental protections through the United States-Mexico-Canada Agreement. We are also using trade to rebuild our alliances and meet shared security challenges, which threaten our networks, our quality of life, and the strength of our democracies. We are ushering in a new era of transatlantic cooperation between the United States and the European Union—including the U.S.-EU Trade and Technology Council and Transatlantic Data Privacy Framework—and developing an Indo-Pacific Economic Framework to strengthen our economic and trade relationships with partners in the region.

Now more than ever, we need our trade policies to deliver for American workers and families. With strong investments and resources—and a bold strategy for inclusive and long-lasting economic prosperity—American businesses and workers will continue to meet every challenge and win the competition for the 21st century.

NOW, THEREFORE, I, JOSEPH R. BIDEN JR., President of the United States of America, by virtue of the authority vested in me by the Constitution and the laws of the United States, do hereby proclaim May 15 through May 21, 2022, as World Trade Week. I call upon all Americans to observe this week and to celebrate with appropriate programs, ceremonies, and activities.

IN WITNESS WHEREOF, I have hereunto set my hand this thirteenth day of May, in the year of our Lord two thousand twenty-two, and of the Independence of the United States of America the two hundred and forty-sixth.

[FR Doc. 2022-10884

Filed 5-18-22; 8:45 am]

Billing code 3395-F2-P